SMALL BUSINESS ADMINISTRATION

Revocation of License of Small Business Investment Company

Pursuant to the authority granted to the United States Small Business Administration by the Windup Order of the United States District Court for the District of New Jersey, entered November 28, 2016, the United States Small Business Administration hereby revokes the license of Redstone Business Lenders, LLC., a New Jersey Limited Partnership, to function as a small business investment company under the Small Business Investment Company License No. 02020209 issued to Redstone Business Lenders, LLC, on November 16, 1963, and said license is hereby declared null and void as of November 28, 2016.

United States Small Business Administration.
A. Joseph Shepard,
Administrator for Investment and Innovation.

[FR Doc. 2018-18096 Filed 8-22-18; 8:45 am]

BILLING CODE 8025-01-P